DEPARTMENT OF THE INTERIOR

National Park Service

Ecological Restoration Plan, Final Environmental Impact Statement, Bandelier National Monument, New Mexico

AGENCY: National Park Service, Department of the Interior.

ACTION: Notice of Availability of a Record of Decision on the Final Environmental Impact Statement for the Ecological Restoration Plan, Bandelier National Monument.

SUMMARY: Pursuant to the National Environmental Policy Act of 1969, 42 U.S.C. 4332(2)(C), the National Park Service announces the availability of the Record of Decision for the Ecological Restoration Plan for Bandelier National Monument, New Mexico. On September 18, 2007, the Regional Director, Intermountain Region, approved the Record of Decision for the project. As soon as practicable, the National Park Service will begin to implement the Preferred Alternative contained in the FEIS issued on August 17, 2007. Alternative B was selected as the Park's preferred alternative; it maximizes work efficiency and minimizes resource impacts by implementing restoration treatments in the most systematic and timely fashion possible given available funding. This course of action, the no-action alternative, and one action alternative were analyzed in the Draft and Final Environmental Impact Statements. Alternative C focused on treating sub-basins containing the highest priority cultural resource sites within piñon-juniper woodland. The full range of foreseeable environmental consequences was assessed, and appropriate mitigating measures were identified. The Record of Decision includes a statement of the decision made, synopses of other alternatives considered, the basis for the decision, a description of the environmentally preferable alternative, a finding of no impairment of park resources and values, a listing of measures to minimize environmental harm, and an overview of public involvement in the decision-making process.

FOR FURTHER INFORMATION CONTACT: John Mack, Chief of Resource Management, Bandelier National Monument, 15 Entrance Road, Los Alamos, New Mexico, 87544, 505-672-3861, extension 540, john_mack@nps.gov.

SUPPLEMENTARY INFORMATION: Copies of the Record of Decision may be obtained from the contact listed above or online at http://parkplanning.nps.gov.

Dated: September 18, 2007.
Michael D. Snyder,
Regional Director, Intermountain Region, National Park Service.

[FR Doc. 07-6102 Filed 12-19-07; 8:45 am]

BILLING CODE 4312-EW-M